DEPARTMENT OF THE INTERIOR

National Park Service

[NPS-WASO-NAGPRA-NPS0029093]

Notice of Inventory Completion: Tennessee Valley Authority, Knoxville, TN

AGENCY: National Park Service, Interior.

ACTION: Notice.

SUMMARY: The Tennessee Valley Authority (TVA) has completed an inventory of human remains, in consultation with the appropriate federally recognized Indian Tribes, and has determined that there is a cultural affiliation between the human remains and present-day Indian Tribes or Native Hawaiian organizations. Lineal descendants or representatives of any Indian Tribe or Native Hawaiian organization not identified in this notice that wish to request transfer of control of these human remains should submit a written request to the TVA. If no additional requestors come forward, transfer of control of the human remains to lineal descendants, Indian Tribes, or Native Hawaiian organizations stated in this notice may proceed.

DATES: Lineal descendants or representatives of any Indian Tribe or Native Hawaiian organization not identified in this notice that wish to request transfer of control of these human remains should submit a written request with information in support of the request to the TVA at the address in this notice by December 27, 2019.

ADDRESSES: Dr. Thomas O. Maher, TVA, 400 West Summit Hill Drive, WT11C, Knoxville,` TN 37902-1401, telephone (865) 632-7458, email tomaher@tva.gov.

SUPPLEMENTARY INFORMATION: Notice is here given in accordance with the Native American Graves Protection and Repatriation Act (NAGPRA), 25 U.S.C. 3003, of the completion of an inventory of human remains under the control of the Tennessee Valley Authority, Knoxville, TN. The human remains were removed from an archeological site in Marshall County, AL.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

The site listed in this notice was excavated as part of TVA's Guntersville Reservoir project by the Alabama Museum of Natural History (AMNH) at the University of Alabama, using labor and funds provided by the Works Progress Administration. Details regarding these excavations and sites may be found in a report, “An Archaeological Survey of Guntersville Basin on the Tennessee River in Northern Alabama,” by William S. Webb and Charles G. Wilder. Human remains and other associated funerary objects from this site were previously listed in a Notice of Inventory Completion published in the Federal Register on September 5, 2017 (82 FR 41986-41987, September 5, 2017), and were transferred to the Alabama-Coushatta Tribe of Texas, Alabama-Quassarte Tribal Town, Coushatta Tribe of Louisiana, and The Muscogee (Creek) Nation. Additional human remains were found during a recent improvement in the curation of the TVA archeological collections at AMNH.

Between September 1938 and January 1939, human remains representing, at minimum, one individual were removed from the Laws site, 1MS100, on Pine Island in Marshall County, AL, after TVA purchased the site on April 21, 1937. Excavations began at the levee adjacent to the river and proceeded by both vertical slicing and horizontal excavations. There appear to have been at least four occupations at this site, including a pre-ceramic period with steatite vessels; a village using limestone-tempered pottery during the Flint River phase (A.D. 500-1000); a late Mississippian occupation using shell-tempered ceramics and rectilinear wall trench structures (Crow Creek phase, A.D. 1500-1700); and the Euro-American trade period (circa A.D. 1670-1715). The human remains are from the Mississippian or historic Native American occupation. No known individuals were identified. No associated funerary objects are present.

Although there is no absolute certainty that Native Americans of the Mississippian period are directly related to modern federally recognized Tribes, a relationship of shared group identity can reasonably be traced between these modern Tribes and the human remains of the earlier culture identified as Mississippian. The preponderance of the evidence indicates that the cultural items from Mississippian and early historic occupations at site 1MS100 are culturally affiliated with Native Americans descendants of the Koasati/Kaskinampo. These descendants include the Alabama-Coushatta Tribe of Texas (previously listed as the Alabama-Coushatta Tribes of Texas); Alabama-Quassarte Tribal Town; Coushatta Tribe of Louisiana; and The Muscogee (Creek) Nation.

Chronicles from Spanish explorers of the 16th century and French explorers of the 17th and 18th centuries indicate the presence of chiefdom-level tribal entities in the southeastern United States which resemble the Mississippian chiefdoms. Linguistic analysis of place names noted by multiple Spanish explorers indicates that Koasati speaking groups inhabited northeastern Alabama. Early maps and research into the historic Native American occupation of northeastern Alabama indicates that the Koasati (as called by the English) or the Kaskinampo (as called by the French) were found at multiple sites in Jackson and Marshall Counties in the 17th and 18th centuries. Oral history, traditions, and expert opinions of the descendants of Koasati/Kaskinampo indicate that this portion of the Tennessee River valley was a homeland of their Tribe. The subsequent involuntary diaspora of these peoples resulted in descendants of the Koasati/Kaskinampo living among multiple federally recognized Tribes.

Determinations Made by the Tennessee Valley Authority

Officials of the Tennessee Valley Authority have determined that:

• Pursuant to 25 U.S.C. 3001(9), the human remains described in this notice represent the physical remains of one individual of Native American ancestry.

• Pursuant to 25 U.S.C. 3001(2), there is a relationship of shared group identity that can be reasonably traced between the Native American human remains and the Alabama-Coushatta Tribe of Texas (previously listed as the Alabama-Coushatta Tribes of Texas); Alabama-Quassarte Tribal Town; Coushatta Tribe of Louisiana; and The Muscogee (Creek) Nation.

Additional Requestors and Disposition

Lineal descendants or representatives of any Indian Tribe or Native Hawaiian organization not identified in this notice that wish to request transfer of control of these human remains should submit a written request with information in support of the request to Dr. Thomas O. Maher, TVA, 400 West Summit Hill Drive, WT11C, Knoxville, TN 37902-1401, telephone (865) 632-7458, email tomaher@tva.gov, by December 27, 2019. After that date, if no additional requestors have come forward, transfer of control of the human remains to the Alabama-Coushatta Tribe of Texas (previously listed as the Alabama-Coushatta Tribes of Texas); Alabama-Quassarte Tribal Town; Coushatta Tribe of Louisiana; and The Muscogee (Creek) Nation may proceed.

The Tennessee Valley Authority is responsible for notifying The Consulted Tribes that this notice has been published.

Dated: October 8, 2019.
Melanie O'Brien,
Manager, National NAGPRA Program.

[FR Doc. 2019-25731 Filed 11-26-19; 8:45 am]

BILLING CODE 4312-52-P